DEPARTMENT OF ENERGY

Federal Energy Regulatory Commission

Combined Notice of Filings #2

Take notice that the Commission received the following electric rate filings:

Docket Numbers: ER10-1532-003; ER10-1541-004; ER10-1642-005; ER10-1763-003; ER10-1766-003; ER10-1767-003; ER13-2349-002; ER13-2350-002; ER16-221-001; ER17-1757-001.

Applicants: Entergy Arkansas, Inc., Entergy Louisiana, LLC, Entergy Mississippi, Inc., Entergy New Orleans, LLC, Entergy Texas, Inc., Entergy Nuclear Palisades, LLC, Entergy Power, LLC, EWO Marketing, LLC, EAM Nelson Holding, LLC, RS Cogen, LLC, Entergy Services, Inc.

Description: Supplement to December 28, 2017 Triennial Market Power Update for the Central Region of the Entergy MBR Utilities.

Filed Date: 3/1/18.

Accession Number: 20180301-5319.

Comments Due: 5 p.m. ET 3/22/18.

Docket Numbers: ER17-481-000.

Applicants: CPV Maryland, LLC.

Description: Report Filing: Refund Report to be effective N/A.

Filed Date: 3/5/18.

Accession Number: 20180305-5323.

Comments Due: 5 p.m. ET 3/26/18.

Docket Numbers: ER18-958-000.

Applicants: Duke Energy Florida, LLC.

Description: § 205(d) Rate Filing: DEF-DEF E&P Agreement—Hamilton Solar to be effective 3/6/2018.

Filed Date: 3/5/18.

Accession Number: 20180305-5284.

Comments Due: 5 p.m. ET 3/26/18.

Docket Numbers: ER18-959-000.

Applicants: Bayonne Plant Holding, L.L.C.

Description: Tariff Cancellation: Notice of Cancellation of Rate Schedule and Request for Waiver to be effective 6/1/2018.

Filed Date: 3/5/18.

Accession Number: 20180305-5286.

Comments Due: 5 p.m. ET 3/26/18.

Docket Numbers: ER18-961-000.

Applicants: PJM Interconnection, L.L.C.

Description: § 205(d) Rate Filing: Original Service Agreement No. 4955—NITSA among PJM and AEP EP to be effective 6/1/2014.

Filed Date: 3/5/18.

Accession Number: 20180305-5288.

Comments Due: 5 p.m. ET 3/26/18.

Docket Numbers: ER18-962-000.

Applicants: PJM Interconnection, L.L.C.

Description: § 205(d) Rate Filing: Original Service Agreement No. 4956—NITSA among PJM and AEPSC to be effective 1/1/2017.

Filed Date: 3/5/18.

Accession Number: 20180305-5290.

Comments Due: 5 p.m. ET 3/26/18.

Docket Numbers: ER18-963-000.

Applicants: Southern Maryland Electric Cooperative, Inc., PJM Interconnection, L.L.C.

Description: § 205(d) Rate Filing: SMECO submits revisions to OATT, Att. H-9C re: Transmission Revenue Requirement to be effective 5/1/2018.

Filed Date: 3/5/18.

Accession Number: 20180305-5293.

Comments Due: 5 p.m. ET 3/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2018.
Nathaniel J. Davis, Sr.,
Deputy Secretary.

[FR Doc. 2018-04738 Filed 3-8-18; 8:45 am]

BILLING CODE 6717-01-P